DEPARTMENT OF DEFENSE

Office of the Secretary

Submission for OMB Review; Comment Request

ACTION: Notice.

The Department of Defense has submitted to OMB for clearance, the following proposal for collection of information under the provisions of the Paperwork Reduction Act (44 U.S.C. Chapter 35).

Title and OMB Number: Report on the Use of Employees of Non-Federal Entities to Provide Services to Department of Defense (32 CFR Part 657); OMB Number 0702-0112.

Type of Request: Extension.

Number of Respondents: 7,400.

Responses Per Respondent: 55 (average).

Annual Responses: 408,768.

Average Burden Per Response: 0.083 hours.

Annual Burden Hours: 33,928.

Needs and Uses: The collection of information contained in the interim rule published on March 15, 2000, was approved as an emergency submission until August 31, 2000. This submission requests a three year extension of the information collection requirements previously approved under OMB Control Number 0702-0112. The information collection is required to provide documentation of various support services from contractors in compliance with Section 343 of Public Law 106-65 (FY 2000 National Defense Authorization Act), and Section 2461(g) of Title 10 United States Code. The intent of the reporting requirement is to obtain direct and indirect labor hour data for services in support of the Army under contracts not specifically excluded in the interim rule. The information obtained will be transmitted directly to the Office of the Assistant Secretary of the Army (Manpower and Reserve Affairs). The labor hour information provided will be protected as company proprietary data (when associated with contact number and contractor name) and will be required at a level of detail not greater than required by intended use. The reports will include: the Federal Supply Class or Service Code pertinent to the services reported; the complete appropriations data for the appropriations funding the line item(s); the name and complete address of the Army contracting office; the name and address of the Army organization receiving the benefit of the services; the time period covered by the report; and, the contract/order number and the associated value.

Affected Public: Business or Other For-Profit.

Frequency: Monthly.

Respondent's Obligation: Mandatory.

OMB Desk Officer: Mr. Lewis W. Oleinick.

Written comments and recommendations on the proposed information collection should be sent to Mr. Oleinick at the Office of Management and Budget, Desk Officer for DoD (Acquisition), Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: June 8, 2000.
Patricia L. Toppings,
Alternate OSD Federal Register Liaison Officer, Department of Defense.

[FR Doc. 00-15218 Filed 6-15-00; 8:45 am]

BILLING CODE 5001-10-M